DEPARTMENT OF THE TREASURY

Office of Foreign Assets Control

Notice of OFAC Sanctions Actions.

AGENCY: Office of Foreign Assets Control, Department of the Treasury.

ACTION: Notice.

SUMMARY: The U.S. Department of the Treasury's Office of Foreign Assets Control (OFAC) is publishing the names of persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section.

FOR FURTHER INFORMATION CONTACT: OFAC: Associate Director for Global Targeting, tel.: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The list of Specially Designated Nationals and Blocked Persons (SDN List) and additional information concerning OFAC sanctions programs are available on OFAC's website (http://www.treasury.gov/ofac).

Notice of OFAC Actions

On February 14, 2018, OFAC determined that the property and interests in property of the following persons are blocked under the relevant sanctions authority listed below.

Individuals

1. GARCIA ROJAS, Javier (a.k.a. “EL PARIENTE”; a.k.a. “MARACUYA”), Medellin, Colombia; DOB 27 Oct 1960; POB Florencia, Caqueta, Colombia; citizen Colombia; Gender Male; Cedula No. 12971151 (Colombia) (individual) [SDNTK] (Linked To: AGROCONSTRUCCIONES LAS PALMERAS S.A.S.; Linked To: MMAG AGRICULTURA GLOBAL S.A.S.). Designated pursuant to section 805(b)(2) of the Kingpin Act, 21 U.S.C. 1904(b)(2), for materially assisting in, or providing support for or to, or providing goods or services in support of, the international narcotics trafficking activities of Jose Bayron PIEDRAHITA CEBALLOS and LA OFICINA DE ENVIGADO.

2. GARCIA ROJAS, Ruth, Colombia; DOB 20 Dec 1967; POB Puerto Asis, Putumayo, Colombia; citizen Colombia; Gender Female; Cedula No. 31971911 (Colombia); Tarjeta Profesional 186785 (Abogado) (Colombia) (individual) [SDNTK] (Linked To: INVERSORA PINZON Y GARCIA S. EN C.S. EN LIQUIDACION). Designated pursuant to section 805(b)(3) of the Kingpin Act, 21 U.S.C. 1904(b)(3), for being directed by, or acting for or on behalf of, Jose Bayron PIEDRAHITA CEBALLOS and Javier GARCIA ROJAS.

3. HERNANDEZ DURANGO, Wilton Cesar, Medellin, Colombia; DOB 10 Dec 1974; POB Medellin, Antioquia, Colombia; citizen Colombia; Gender Male; Cedula No. 70326525 (Colombia) (individual) [SDNTK] (Linked To: EUROMECANICA). Designated pursuant to section 805(b)(3) of the Kingpin Act, 21 U.S.C. 1904(b)(3), for being directed by, or acting for or on behalf of, Jose Bayron PIEDRAHITA CEBALLOS and Ruth GARCIA ROJAS.

Entities

1. AGROCONSTRUCCIONES LAS PALMERAS S.A.S., Carrera 43 A 1 Sur 220 Interior 706, Medellin, Antioquia, Colombia; NIT # 900609147-4 (Colombia) [SDNTK]. Designated pursuant to section 805(b)(3) of the Kingpin Act, 21 U.S.C. 1904(b)(3), for being owned, controlled, or directed by Javier GARCIA ROJAS.

2. EUROMECANICA, Calle 44 74 83, Medellin, Antioquia, Colombia; Matricula Mercantil No. 21-573208-02 (Medellin) [SDNTK]. Designated pursuant to section 805(b)(3) of the Kingpin Act, 21 U.S.C. 1904(b)(3), for being owned, controlled, or directed by Wilton Cesar HERNANDEZ DURANGO.

3. INVERSORA PINZON Y GARCIA S. EN C.S. EN LIQUIDACION (a.k.a. INVERSORA PINZON Y GARCIA S. EN C.S.), Cl. 15A Nro. 106 13 13 Casa, Cali, Valle, Colombia; Cl. 15A Nro. 106 13 13C, Cali, Valle, Colombia; NIT # 805024080-3 (Colombia) [SDNTK]. Designated pursuant to section 805(b)(3) of the Kingpin Act, 21 U.S.C. 1904(b)(3), for being owned, controlled, or directed by Ruth GARCIA ROJAS.

4. MMAG AGRICULTURA GLOBAL S.A.S. (f.k.a. JAVIER GARCIA ROJAS E.U.; a.k.a. MAG AGRICULTURA GLOBAL S.A.S.), Carrera 43 A 1 Sur 220 Oficina 706, Medellin, Antioquia, Colombia; NIT # 813003117-6 (Colombia) [SDNTK]. Designated pursuant to section 805(b)(3) of the Kingpin Act, 21 U.S.C. 1904(b)(3), for being owned, controlled, or directed by Javier GARCIA ROJAS.

Dated: February 14, 2018.
Andrea M. Gacki
Acting Director, Office of Foreign Assets Control.

[FR Doc. 2018-03357 Filed 2-16-18; 8:45 am]

BILLING CODE 4810-AL-P